ENVIRONMENTAL PROTECTION AGENCY

[EPA-HQ-OAR-2008-0142; FRL-8535-5]

Consumer Products Environmental Partnerships Program—Public Meeting

AGENCY: Environmental Protection Agency (EPA).

ACTION: Notice of Public Meeting.

SUMMARY: EPA will convene a public meeting to discuss opportunities for industry-government partnerships to foster greater public awareness of the environmental attributes of household and institutional consumer products and help make consumers aware of efforts on the part of consumer product manufacturers to improve the environmental performance of their products and production facilities. The primary purpose of this initial meeting is to establish a dialog among government, industry, and public stakeholders leading to formation of a Consumer Products Environmental Partnerships Working Group. Once formed, the working group will identify and develop possible partnership approaches such as product labeling, consumer education programs, environmental information Web sites, product stewardship programs, and manufacturer recognition programs.

DATES: The meeting will be held from 1 p.m. to 5 p.m. on Monday, March 17 and from 9 a.m. to 5 p.m. on Tuesday, March 18, 2008.

ADDRESSES: The meeting will be held in Building C of the EPA campus at 109 Alexander Drive, Research Triangle Park, North Carolina.

FOR FURTHER INFORMATION CONTACT: For information concerning the Consumer Products Environmental Partnerships Program, contact Mr. Bruce Moore, U.S. EPA, Office of Air Quality Planning and Standards, Sector Policies and Programs Division, Natural Resources and Commerce Group (E143-03), Research Triangle Park, North Carolina 27711, telephone number: (919) 541-5460, fax number (919) 541-3470, e-mail address: moore.bruce@epa.gov. If you plan to attend the meeting, please submit your name and affiliation by e-mail or by telephone to Mr. Moore no later than Thursday, March 13, 2008.

SUPPLEMENTARY INFORMATION:

I. General Information

Docket. EPA has established a docket for this program under Docket ID Number EPA-HQ-OAR-2008-0142. Publicly available docket materials are available either electronically through www.regulations.gov or in hard copy at the EPA Docket Center, Public Reading Room, EPA West, Room 3334, 1301 Constitution Ave., NW., Washington, DC. The Public Reading Room is open from 8:30 a.m. to 4:30 p.m., Monday through Friday, excluding legal holidays. The telephone number for the Public Reading Room is (202) 566-1744, and the telephone number for the Air Docket is (202) 566-1742.

II. Background

EPA envisions that the consumer products of interest to the working group will encompass a wide array of personal care products, household cleaners, automotive aftermarket chemicals, non-agricultural pesticides, non-industrial adhesives and sealants, aerosol spray paints, architectural coatings, and other formulated products. These products are used by consumers in and around homes, offices, schools, and in a variety of other settings. These important products can enhance the quality of life of consumers, make household chores easier, and have beneficial health functions through control of household pests and pathogens in and around living spaces.

However, as these products are used, stored, and are disposed of, some or all of their ingredients evaporate and enter the air. One concern that has been raised is the effect of household and institutional consumer product use on indoor air quality. In addition to personal exposure during use, consumer products also contribute to ground-level ozone formation, have solid waste and groundwater impacts due to disposal of spent packaging, are sources of fine particulate matter through secondary aerosol formation, and in some cases can contribute to stratospheric ozone depletion and global warming. Furthermore, increased use of nanomaterials in consumer products is an emerging issue. With such potential multimedia and multipollutant impacts, consumer products are ripe for additional environmental attention.

Since the late 1980s, a substantial segment of these products (e.g., architectural coatings, aerosol coatings, and many categories of household and institutional consumer products) have been regulated intensely by EPA and several States for purposes of controlling ground-level ozone formation through limits placed on the volatile organic compound content of the products. We commend the States and the consumer products and coatings industries for their cooperative efforts to reduce ozone formation resulting from use of these products. Furthermore, some manufacturers voluntarily have improved the environmental performance of their products over the years. However, other potential environmental effects generally have not been addressed.

The EPA believes that consumer choice in the marketplace can be an effective means of bringing about change in the environmental performance of household and institutional products. Key elements of such a market-based approach include educating consumers and making information available concerning the environmental attributes of the products they use. We also believe that reliable information concerning the degree of environmental stewardship exhibited by consumer products and coatings manufacturers should play a role in consumers' purchasing decisions. For this information to be useful, manufacturers who are good environmental stewards should be recognized in a manner that is readily apparent to the consumer in the marketplace.

III. Structure of the Meeting

The EPA envisions this meeting to consist of three major phases: (1) Presentation of background information on consumer products, existing stewardship programs, constraints on environmental marketing claims, and EPA's initial thoughts on a few possible partnership approaches; (2) several concurrent breakout sessions to explore these approaches; and (3) formation of the Consumer Products Partnerships Working Group, including subgroups for specific approaches.

Dated: February 26, 2008.
Jennifer N. Edmonds,
Acting Director, Office of Air Quality Planning and Standards.

[FR Doc. E8-3936 Filed 2-28-08; 8:45 am]

BILLING CODE 6560-50-P